DEPARTMENT OF AGRICULTURE

Rural Utilities Service

Minnkota Power Cooperative, Inc.: Notice of Extension of Public Comment Period for Public Scoping in Preparation of an Environmental Impact Statement

AGENCY: Rural Utilities Service, USDA.

ACTION: Notice of Intent To Extend Public Comment Period for Public Scoping for Preparation of an Environmental Impact Statement

SUMMARY: The Rural Utilities Service (RUS), an agency delivering the U.S. Department of Agriculture's Rural Development Utilities Programs, hereinafter referred to as Rural Development and/or the Agency, is extending the public comment period for the public scoping in preparation of an Environmental Impact Statement (EIS) for the proposed action by Minnkota Power Cooperative (Minnkota Power), Otter Tail Power Company, and Minnesota Power to construct a 230 kV electric transmission line from Bemidji to Grand Rapids, Minnesota.

Rural Development and the State of Minnesota Office of Energy Security (OES) are jointly preparing an EIS to evaluate the potential impacts of the proposed transmission line pursuant to the National Environmental Policy Act of 1969 (NEPA) (U.S.C. 4231 et seq.) in accordance with the Council on Environmental Quality (CEQ) regulations for implementing the procedural provisions of NEPA (40 CFR 1500-1508), 36 CFR 800.2(a); section 106 of the National Historic Preservation Act 16 U.S.C. 470f and its implementing regulations, “Protection of Historic Properties” (36 CFR Part 800); the Minnesota Environmental Policy Act (MEPA), Minnesota Statute, Chapter 116D.04; the Minnesota Power Plant Siting Act (MPPSA); Minnesota Statute, Chapter 216 E.03 and Minnesota Rules, Chapter 4400. The U.S. Forest Service-Chippewa National Forest, the U.S. Army Corps of Engineers, the U.S. Bureau of Indian Affairs, and the Leech Lake Band of Ojibwe are participating as Cooperating Agencies in development of the EIS.

Two public scoping documents, an Alternatives Evaluation Study (AES) and a Macrocorridor Study (MCS), were prepared to provide public information on the proposed project. Using information from the AES and the MCS and considering input provided by government agencies, private organizations, and the public, Rural Development and OES, in consultation with the Cooperating Agencies, will determine the scope of the EIS.

The MCS Study included maps of only three of the four transmission line corridor alternatives. This report has been updated to include the map of four transmission line macrocorridor options that are currently part of the study area. Notices distributed in local areas to notify the public of the proposed project included only one macrocorridor option with two route alternatives the applicants proposed in the State of Minnesota Route Permit Application. To ensure that interested parties located within the any of the four transmission line macrocorridor alternatives are provided adequate opportunity for comment, notices are being reissued and the public comment period is being extended for one month.

DATES: A Notice of Intent To Hold Public Scoping Meetings and Prepare an Environmental Impact Statement for the proposed project was published in the Federal Register on July 18, 2008. The public comment period has been extended and written comments relating to the proposed project will be accepted until 5 p.m. Eastern Time on September 30, 2008.

ADDRESSES: To send comments or for further information, contact Barbara Britton, Environmental Protection Specialist, USDA Rural Development Utilities Programs, at 1400 Independence Avenue, SW., Stop 1571, Washington, DC 20250-1571, telephone (202) 720-1414, fax: (202) 690-0629, e-mail Barbara.Britton@wdc.usda.gov or Suzanne Steinhauer, Project Manager, Minnesota Department of Commerce, Office of Energy Security, at 85 Seventh Place, Suite 500, Saint Paul, Minnesota 55010, telephone (651) 296-2888, e-mail Suzanne.Steinhauer@state.mn.us. A copy of the AES and MCS can be obtained from the Agency Web site at http://www.usda.gov/rus/water/ees/eis.htm, by contacting Bob Lindholm of Minnesota Power at (888) 373-4113, bemidjiinfo@capx2020.com, and at the public libraries listed below:

Bemidji Public Library, 509 America Avenue, NW., Bemidji, MN 56601.

Cass Lake Community Library, 223 Cedar Avenue, NW., P.O. Box 836, Cass Lake, MN 56633.

Grand Rapids Area Library, 140 NE. 2nd Street, Grand Rapids, MN 55744.

Blackduck Community Library, 72 First Street, SE., P.O. Box 326, Blackduck, MN 56630.

Margaret Welch Memorial Library, P.O. Box 106, 5051 State 84, Longville, MN 56655.

Walker Public Library, 207 4th Street, P.O. Box 550, Walker, MN 56484.

Bovey Public Library, Village Hall, 402 2nd Street, P.O. Box 130, Bovey, MN 55709-0130.

Coleraine Public Library, Independent Building, 203 Cole Avenue, P.O. Box 225, Coleraine, MN 55722-0225.

SUPPLEMENTARY INFORMATION: Minnkota Power, Otter Tail Power, and Minnesota Power propose to construct a new transmission line from Bemidji to Grand Rapids, Minnesota. The proposal is designed to correct a local load serving inadequacy for the Bemidji area and the northern Red River Valley in West Central Minnesota. The line would originate from Minnkota's 230 kV Wilton Substation located just west of Bemidji, Minnesota, to Minnesota Power's 230 kV Boswell Substation in Cohasset, Minnesota, northwest of Grand Rapids, Minnesota. It is part of the CapX2020 long-range planning effort that has identified a comprehensive framework for new transmission infrastructure that will be needed to maintain reliability of the transmission system throughout Minnesota and the surrounding region. Minnkota Power, Otter Tail Power, and Minnesota Power are partners in this investment, and Minnkota Power is seeking financing from Rural Development Utilities Programs for its portion of the investment.

The proposed project may require permits from the United States Department of the Army Corps of Engineers (COE) under section 10 of the Rivers and Harbors Act of 1899, 33 U.S.C. 403, for the project's overhead wires to cross the Mississippi River, and under section 404 of the Clean Water Act, 33 U.S.C. 1344, to place transmission line structures and associated backfill into waters of the United States. The proposed project may require a Special Use Permit to cross the Chippewa National Forest from the United States Forest Service under the Federal Land Policy and Management Act pursuant to 36 CFR 251.58, if it traverses the Chippewa National Forest. The proposed project may require a permit to cross Federal Aid Highways under the Department of Transportation Act 23 CFR 1.23 and 1.27; 23 U.S.C. 116, 123, and 315; 23 CFR 645; and 23 CFR 771. The proposed project may require a certification from the U.S. Environmental Protection Agency under section 401 of the Clean Water Act if it traverses tribal lands. The proposed project must be considered by the United States Fish and Wildlife Service for compliance with the Endangered Species Act 16 U.S.C. 1531 et seq., the Migratory Bird Act U.S.C. 703-712, 50 CFR Ch 1, and the Bald and Golden Eagle Protection Act of 1972 16 U.S.C. 668. The proposed project may require a right of way permit from the United States Bureau for Indian Affairs to cross American Indian trust lands pursuant to 25 CFR 169. The Leech Lake Band of Ojibwe may be a signatory to any agreement prepared under section 106 of the National Historic Preservation Act addressing resolution of adverse effects of the proposed project, if identified, pursuant to 36 CFR 800 6, particularly if the proposed project traverses the Leech Lake Band Reservation.

Dated: September 5, 2008.
Mark S. Plank,
Director, Engineering and Environmental Staff, USDA/Rural Development/Utilities Programs.

[FR Doc. E8-21178 Filed 9-10-08; 8:45 am]

BILLING CODE 3410-15-P